DEPARTMENT OF LABOR

Bureau of International Labor Affairs

Request for Information on Forced/Indentured Child Labor Pursuant to Executive Order 13126; Firecracker Industry in China

AGENCY: Bureau of International Labor Affairs, Labor.

ACTION: Request for information.

SUMMARY: This notice is a request for information to assist the Department of Labor in the examination of whether forced child labor exists in the firecracker industry in China. This review is being conducted pursuant to Executive Order 13126 (“Prohibition of Acquisition of Produced by Forced or Indentured Child Labor”) and the “Procedural Guidelines for Maintenance of the List of Products Requiring Federal Contractor Certification as to Forced or Indentured Child Labor” in the Federal Acquisition Regulation.

The Department anticipates that written information regarding forced child labor in the firecracker industry in China will aid it in determining, in consultation with the Departments of State and Treasury, whether this product, and its originating country, should be added to the Executive Order list.

DATES: Submitters of information are requested to provide two (2) copies of their written submission to the International Child Labor Program at the address below by September 20, 2002.

ADDRESSES: Written submissions should be addressed to Christine Camillo at the International Child Labor Program, Bureau of International Labor Affairs, U.S. Department of Labor, 200 Constitution Avenue, NW., Room S-5307, Washington, DC 20210.

FOR FURTHER INFORMATION CONTACT: Christine Camillo, International Child Labor Program, Bureau of International Labor Affairs, at (693-4839; fax (202) 693-4830.

SUPPLEMENTARY INFORMATION:

I. Background

Executive Order No. 13126, which was published in the Federal Register on June 16, 1999 (64 FR 32383-32385), declared that it was “the policy of the United States Government * * * that the executive agencies shall take appropriate actions to enforce the laws prohibiting the manufacture or importation of good, wares articles, and merchandise mined, produced or manufactured wholly or in part by forced or indentured child labor”. Pursuant to the Executive Order, and following public notice and comment, the Department of Labor published in the January 18, 2001 Federal Register, a final list of products, identified by their country of origin, that the Department, in consultation and cooperation with the Departments of State and Treasury, has a reasonable basis to believe might have been mined, produced or manufactured with forced or indentured child labor. In addition to this list, the Department also published on January 18, 2001, a notice of procedural guidelines for maintaining, reviewing, and, as appropriate, revising the list of products required by Executive Order 13126 [48 CFR subpart 22.15]. The List of Products Requiring Federal Contractor Certification as to Forced or Indentured Child Labor can be accessed on the Internet at www.dol.gov/ilab or can be obtained from: International Child Labor Program (ICLP), Bureau of International Labor Affairs, Room S-5307, U.S. Department of Labor, 200 Constitution Avenue, NW., Washington, DC 20210; telephone: (202) 693-4843; fax (202) 693-4830. A copy of the Procedural Guidelines is also available from the International Child Labor Program office.

Pursuant to Section 3 of the Executive Order, the Federal Acquisition Regulatory Councils published a final rule in the Federal Register on January 18, 2001, pursuant to that federal contractors who supply products which appear on the list issued by the Department of Labor must certify to the contracting officer that the contractor, or, in the case of an incorporated contractor, a responsible official of the contractor, has made a good faith effort to determine whether forced or indentured child labor was used to mine, produce or manufacture any product furnished under the contract and that, on the basis of those efforts, the contractor is unaware of any such use of child labor. The regulation also imposes other requirements with respect to contracts for products on the Department of Labor's List.

II. China/Firecrackers Executive Order Submission

On June 29, 2001, the Department of Labor accepted for review a submission under Executive Order 13126 regarding the use of forced child labor in the firecracker industry in China. The submission, which was provided by State Department Watch, included information describing a March 2001 incident in which children in Jiangxi Province, China were allegedly killed while being forced to manufacture firecrackers at their school.

III. Definition of Forced/Indentured Child Labor

Under Section 6c of Executive Order 13126—

Forced or indentured child labor means all work or service—

(1) Exacted from any person under the age of 18 under the menace of any penalty for its nonperformance and for which the worker does not offer himself voluntarily; or

(2) Performed by any person under the age of 18 pursuant to a contract the enforcement of which can be accomplished by process or penalties.

IV. Information Sought

The Department is requesting information about the specific child labor incident described above or any other similar incidents where children have been forced to manufacture fireworks in China as well as efforts made by the Government of China to address this problem.

This notice is a general solicitation of comments from the public. All submitted comments will be made a part of the record of the review referred to above and will be available for public inspection.

Signed at Washington, DC, this 15th day of August, 2002.
Thomas B. Moorhead,
Deputy Under Secretary for International Labor Affairs.

[FR Doc. 02-21331 Filed 8-20-02; 8:45 am]

BILLING CODE 4510-28-P